ENVIRONMENTAL PROTECTION AGENCY

[FRL-9975-25-OAR]

Issuance of Guidance Memorandum, “Project Emissions Accounting Under the New Source Review Preconstruction Permitting Program”

AGENCY: Environmental Protection Agency (EPA).

ACTION: Issuance of guidance memorandum.

SUMMARY: The Environmental Protection Agency (EPA) is notifying the public that it has issued the guidance memorandum titled “Project Emissions Accounting Under the New Source Review Preconstruction Permitting Program.”

ADDRESSES: You may view this guidance memorandum electronically at: https://www.epa.gov/nsr/project-emissions-accounting.

FOR FURTHER INFORMATION CONTACT: Juan Santiago, Air Quality Policy Division, Office of Air Quality Planning and Standards, U.S. Environmental Protection Agency, Research Triangle Park, North Carolina 27711, telephone number: (919) 541-1084; and email address: santiago.juan@epa.gov.

SUPPLEMENTARY INFORMATION: On March 13, 2018, the EPA issued a guidance memorandum that addresses the accounting of emissions changes resulting from a project under Step 1 of the New Source Review (NSR) applicability process in the EPA regulations. Step 1 of the NSR applicability process requires a determination of whether a proposed project will, by itself, result in a significant emissions increase. As explained in the memorandum, it is the EPA's interpretation that its current NSR regulations provide that emissions decreases as well as increases are to be considered at Step 1 of the NSR applicability process. This interpretation is grounded in the principle that the plain language of the Clean Air Act indicates that Congress intended to apply NSR to changes that increase actual emissions and the language in the corresponding NSR regulations is consistent with that intent.

Prior EPA guidance had indicated that the relevant provisions of the NSR regulations preclude the consideration of emissions decreases at Step 1. For the reasons discussed in the memorandum, the EPA has revised its interpretation of the regulatory language and will no longer apply any such interpretation reflected in prior statements on this issue.

Dated: March 13, 2018.
Panagiotis E. Tsirigotis,
Director, Office of Air Quality Planning and Standards.

[FR Doc. 2018-06430 Filed 3-29-18; 8:45 am]

BILLING CODE 6560-50-P